SOCIAL SECURITY ADMINISTRATION

[Docket No. SSA 2012-0016]

Privacy Act of 1974, as Amended; Computer Matching Program (Social Security Administration (SSA)/Department of Veterans Affairs (VA), Veterans Benefits Administration (VBA))—Match Number 1309

AGENCY: SSA.

ACTION: Notice of a renewal of an existing computer matching program that will expire on October 1, 2012.

SUMMARY: In accordance with the provisions of the Privacy Act, as amended, this notice announces a renewal of an existing computer matching program that we are currently conducting with VA/VBA.

DATES: We will file a report of the subject matching program with the Committee on Homeland Security and Governmental Affairs of the Senate; the Committee on Oversight and Government Reform of the House of Representatives; and the Office of Information and Regulatory Affairs, Office of Management and Budget (OMB). The matching program will be effective as indicated below.

ADDRESSES: Interested parties may comment on this notice by either telefaxing to (410) 966-0869 or writing to the Executive Director, Office of Privacy and Disclosure, Office of the General Counsel, SSA, 617 Altmeyer Building, 6401 Security Boulevard, Baltimore, MD 21235-6401. All comments received will be available for public inspection at this address.

FOR FURTHER INFORMATION CONTACT: The Executive Director, Office of Privacy and Disclosure, Office of the General Counsel, SSA, as shown above.

SUPPLEMENTARY INFORMATION:

A. General

The Computer Matching and Privacy Protection Act of 1988 (Pub. L. 100-503) amended the Privacy Act (5 U.S.C. 552a) by describing the conditions under which computer matching involving the Federal government could be performed and by adding certain protections for persons applying for, and receiving, Federal benefits. Section 7201 of the Omnibus Budget Reconciliation Act of 1990 (Pub. L. 101-508) further amended the Privacy Act regarding protections for such persons.

The Privacy Act, as amended, regulates the use of computer matching by Federal agencies when records in a system of records are matched with other Federal, State, or local government records. It requires Federal agencies involved in computer matching programs to:

(1) Negotiate written agreements with the other agency or agencies participating in the matching programs;

(2) Obtain the approval of the matching agreement by the Data Integrity Boards of the participating Federal agencies;

(3) Publish notice of the computer matching program in the Federal Register;

(4) Furnish detailed reports about matching programs to Congress and OMB;

(5) Notify applicants and beneficiaries that their records are subject to matching; and

(6) Verify match findings before reducing, suspending, terminating, or denying a person's benefits or payments.

B. SSA Computer Matches Subject to the Privacy Act

We have taken action to ensure that all of our computer matching programs comply with the requirements of the Privacy Act, as amended.

Dawn S. Wiggins,
Acting Executive Director, Office of Privacy and Disclosure, Office of the General Counsel.

Notice of Computer Matching Program, SSA with the Department of Veterans Affairs (VA), Veterans Benefits Administration (VBA).

A. Participating Agencies

SSA and VA/VBA.

B. Purpose of the Matching Program

The purpose of this matching program is to establish the conditions under which VA will disclose VA compensation and pension payment data to us. This disclosure will provide us with information necessary to verify an individual's self-certification of eligibility for the Extra Help with Medicare Prescription Drug Plan Costs program (Extra Help). It will also enable us to identify individuals who may qualify for Extra Help.

C. Authority for Conducting the Matching Program

The legal authority for VA to disclose information under this agreement is 42 U.S.C. 1383(f) of the Social Security Act (Act). The legal authority for us to conduct this computer matching program is 1860D-14(a)(3) (42 U.S.C. 1395w-114), and 1144(a)(1) and (b)(1) (42 U.S.C. 1320b-14) of the Act.

D. Categories of Records and Persons Covered by the Matching Program

1. Systems of Records

VA will provide us with electronic files containing compensation and pension payment data from its system of records (SOR) entitled “Compensation, Pension, Education, and Vocational Rehabilitation and Employment Records-VA” (58VA21/22/28), published at 74 FR 29275 (last amended April 27, 2010). Routine use 20 for VA permits the disclosure of this information.

We will match the VA data with data in our Medicare Database (MDB), SOR 60-0321, last published at 71 FR 42159 (July 25, 2006).

2. Number of Records

VA's data file will consist of approximately 4.9 million electronic records and VA will transmit it monthly. Our comparison file contains approximately 65 million records obtained from the MDB. The number of people who apply for Extra Help determines in part the number of records matched.

3. Specified Data Elements

We will conduct the match using the Social Security number, name, date of birth, and VA claim number on both the VA file and the MDB.

4. Frequency of Matching

VA will furnish us with an electronic file containing VA compensation and pension payment data monthly. The actual matching will take place approximately during the first week of every month.

E. Inclusive Dates of the Matching Program

The effective date of this matching program is October 2, 2012, provided that the following notice periods have lapsed: 30 days after publication of this notice in the Federal Register and 40 days after notice of the matching program is sent to Congress and OMB. The matching program will continue for 18 months from the effective date and may be extended for an additional 12 months thereafter, if certain conditions are met.

[FR Doc. 2012-21929 Filed 9-5-12; 8:45 am]

BILLING CODE 4191-02-P